DEPARTMENT OF HOUSING AND URBAN DEVELOPMENT

[Docket No. FR-4579-FA-05]

Announcement of Funding Award—Fiscal Year 2000, Office of Healthy Homes and Lead Hazard Control, National Center for Lead Safe Housing

AGENCY: Office of Healthy Homes and Lead Hazard Control, HUD.

ACTION: Announcement of funding award.

SUMMARY: In accordance with section 102(a)(4)(C) of the Department of Housing and Urban Development Reform Act of 1989, this announcement notifies the public of a funding decision made by the Department to the National Center for Lead Safe Housing. This announcement contains the name and address of the awardee and the amount of the award.

FOR FURTHER INFORMATION CONTACT: Joey Zhou, Department of Housing and Urban Development, 451, Seventh Street, SW, Washington, DC, 20410, telephone (202) 755-1785, ext. 153 (this is not a toll-free number). Hearing- or speech-impaired individuals may access this number by calling the Federal Information Relay Service TTY at 1-800-877-8339.

SUPPLEMENTARY INFORMATION: The Lead Hazard Control grant for the National Center for Lead Safe Housing was issued pursuant to Pub. L. 102-550, Title X; FY 2000 budget; House Appropriations Committee Report 2684-21.

This notice announces the award of $750,000 to the National Center for Lead Safe Housing which will be used to provide funding to examine and disseminate innovative, lower cost hazard control and educational strategies and provide technical assistance for integrating lead safety in HUD programs.

The Catalog of Federal Domestic Assistance number for this program is 14.900.

In accordance with section 102(a)(4)(C) of the Department of Housing and Urban Development Reform Act of 1989 (103 Stat. 1987, 42 U.S.C. 3545), the Department is publishing the name, address, and amount of the award as follows: National Center for Lead Safe Housing, 10227 Wincopin Circle, Suite 205, Columbia, MD 21044, Amount of Grant: $750,000.

Dated: March 13, 2001.
David E. Jacobs,
Acting Director, Office of Healthy Homes and Lead Hazard Control.

[FR Doc. 01-6933 Filed 3-20-01; 8:45 am]

BILLING CODE 4210-01-P